DEPARTMENT OF AGRICULTURE

Rural Utilities Service

Arizona Electric Power Cooperative, Inc.; Notice of Finding of No Significant Impact

AGENCY: Rural Utilities Service, USDA.

ACTION: Notice of finding of no significant impact.

SUMMARY: Notice is hereby given that the Rural Utilities Service (RUS) has made a finding of no significant impact (FONSI) with respect to a request from Arizona Electric Power Cooperative (AEPCO) for assistance from RUS to finance the construction and operation of a 40 MW gas turbine generation facility at the Apache Generating Station located in Cochise County, Arizona.

FOR FUTHER INFORMATION CONTACT: Dennis E. Rankin, Environmental Protection Specialist, RUS, Engineering and Environmental Staff, Stop 1571, 1400 Independence Avenue, SW, Washington, DC 20250-1571, telephone: (202) 720-1953 or e-mail: drankin@rus.usda.gov.

SUPPLEMENTARY INFORMATION: AEPCO is proposing to install a 40 MW GE model LM6000 Sprint gas combustion turbine generation facility and modify the switchyard at their existing Apache Generating Station which is located at 3525 North Highway 191 South near Cochise, Arizona. Gas Turbine #4 will be configured to operate in the simple cycle mode. A new 100-foot tall stack will be required. Approximately 0.5 acres of the existing Apache Generation site will be needed for the proposed project. The existing plant infrastructure will be utilized for the new generation addition including gas lines, cooling water and transmission facilities.

Copies of the Environmental Assessment and FONSI are available at, or can be obtained from, RUS at the address provided herein, or from Ms. Teri McCaulou, AEPCO, 1000 South Highway 80, Benson, Arizona 85602, telephone: (520) 586-5122.

Dated: January 31, 2002.
Blaine D. Stockton,
Assistant Administrator, Electric Program, Rural Utilities Service.

[FR Doc. 02-4408 Filed 2-25-02; 8:45 am]

BILLING CODE 3410-15-P